NUCLEAR REGULATORY COMMISSION

[NRC-2016-0188]

Biweekly Notice: Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from August 16, 2016, to August 29, 2016. The last biweekly notice was published on August 30, 2016.

DATES: Comments must be filed by October 13, 2016. A request for a hearing must be filed by November 14, 2016.

ADDRESSES: You may submit comments by any of the following methods (unless this document describes a different method for submitting comments on a specific subject):

• Federal Rulemaking Web site: Go to http://www.regulations.gov and search for Docket ID NRC-2016-0188. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001; telephone: 301-415-2242, email: Paula.Blechman@nrc.gov.

I. Obtaining Information and Submitting Comments

A. Obtaining Information

Please refer to Docket ID NRC-2016-0188, facility name, unit number(s), plant docket number, application date, and subject when contacting the NRC about the availability of information for this action. You may obtain publicly-available information related to this action by any of the following methods:

• Federal Rulemaking Web site: Go to http://www.regulations.gov and search for Docket ID NRC-2016-0188.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2016-0188, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example, in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and a petition to intervene (petition) with respect to issuance of the amendment to the subject facility operating license or combined license. Petitions shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a petition is filed within 60 days, the Commission or a presiding officer designated by the Commission or by the Chief Administrative Judge of the Atomic Safety and Licensing Board Panel, will rule on the petition; and the Secretary or the Chief Administrative Judge of the Atomic Safety and Licensing Board will issue a notice of a hearing or an appropriate order.

As required by 10 CFR 2.309, a petition shall set forth with particularity the interest of the petitioner in the proceeding, and how that interest may be affected by the results of the proceeding. The petition should specifically explain the reasons why intervention should be permitted with particular reference to the following general requirements: (1) The name, address, and telephone number of the petitioner; (2) the nature of the petitioner's right under the Act to be made a party to the proceeding; (3) the nature and extent of the petitioner's property, financial, or other interest in the proceeding; and (4) the possible effect of any decision or order which may be entered in the proceeding on the petitioner's interest. The petition must also set forth the specific contentions which the petitioner seeks to have litigated at the proceeding.

Each contention must consist of a specific statement of the issue of law or fact to be raised or controverted. In addition, the petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion to support its position on the issue. The petition must include sufficient information to show that a genuine dispute exists with the applicant on a material issue of law or fact. Contentions shall be limited to matters within the scope of the amendment under consideration. The contention must be one which, if proven, would entitle the petitioner to relief. A petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with the NRC's regulations, policies, and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1).

The petition should state the nature and extent of the petitioner's interest in the proceeding. The petition should be submitted to the Commission by November 14, 2016. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing, a petition for leave to intervene, any motion or other document filed in the proceeding prior to the submission of a request for hearing or petition to intervene (hereinafter “petition”), and documents filed by interested governmental entities participating under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are available on the NRC's public Web site at http://www.nrc.gov/site-help/e-submittals/adjudicatory-sub.html. Participants may attempt to use other software not listed on the Web site, but should note that the NRC's E-Filing system does not support unlisted software, and the NRC Electronic Filing Help Desk will not be able to offer assistance in using unlisted software.

Once a participant has obtained a digital ID certificate and a docket has been created, the participant can then submit a petition. Submissions should be in Portable Document Format (PDF). Additional guidance on PDF submissions is available on the NRC's public Web site at http://www.nrc.gov/site-help/electronic-sub-ref-mat.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing petition to intervene is filed so that they can obtain access to the document via the E-Filing system.

A person filing electronically using the NRC's adjudicatory E-Filing system may seek assistance by contacting the NRC Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 7 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a petition will require including information on local residence in order to demonstrate a proximity assertion of interest in the proceeding. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties to the hearing.

For further details with respect to these license amendment applications, see the application for amendment which is available for public inspection in ADAMS and at the NRC's PDR. For additional direction on accessing information related to this document, see the “Obtaining Information and Submitting Comments” section of this document.

Florida Power & Light Company, Docket Nos. 50-250 and 50-251, Turkey Point Nuclear Generating Unit Nos. 3 and 4, Miami-Dade County, Florida

Date of amendment request: June 30, 2016. A publicly-available version is in ADAMS under Accession No. ML16194A342.

Description of amendment request: The amendments would revise the Technical Specification (TS) requirements for the auxiliary feedwater (AFW) system. The proposed changes include conforming administrative changes to the TSs.

Basis for proposed no significant hazards consideration determination: As required by 10 CFR 50.91(a), the licensee has provided its analysis of the issue of no significant hazards consideration, which is presented below:

1. Does the proposed amendment involve a significant increase in the probability or consequences of an accident previously evaluated?

Response: No.

The proposed change requires that three AFW steam supplies must be operable. The AFW system is not an initiator of any accident previously evaluated; therefore, the probability of occurrence of an accident is not significantly affected by the proposed changes. The change does not involve a significant increase in the consequences of an accident because three steam supplies are needed to ensure that the AFW system can perform its specified function for all postulated events in the presence of a single failure. The proposed changes do not adversely impact the ability of the AFW system to mitigate the consequences of accidents previously evaluated because the proposed change reduces the allowable out of service time for a single inoperable steam supply.

Therefore, the proposed change does not involve a significant increase in the probability or consequences of an accident previously evaluated.

2. Does the proposed amendment create the possibility of a new or different kind of accident from any accident previously evaluated?

Response: No.

The proposed change requires that three steam supplies are available to ensure that the AFW system can perform its specified function in the presence of a single failure. As such, the proposed change adds a more restrictive requirement than currently exists because the LCO [limiting condition for operation] can no longer be met with only two AFW steam supplies operable.

The proposed change does not involve a physical alteration of the plant (no new or different type of equipment will be installed). The proposed change does not create any new failure modes for existing equipment or any new limiting single failures. Additionally, the proposed change does not involve a change in the methods governing normal plant operation, and all safety functions will continue to perform as previously assumed in the accident analyses. Thus, the proposed change does not adversely affect the design function or operation of any plant structures, systems, or components.

No new accident scenarios, failure mechanisms, or limiting single failures are introduced as a result of the proposed change. The proposed change does not challenge the performance or integrity of any safety-related system.

Therefore, the proposed change does not create the possibility of a new or different kind of accident from any previously evaluated.

3. Does the proposed amendment involve a significant reduction in a margin of safety?

Response: No.

The proposed change adds a more restrictive requirement than currently exists because the LCO can no longer be met with only two AFW steam supplies operable. The proposed change will not adversely affect the operation of plant equipment or the function of equipment assumed in the accident analysis. The proposed amendment does not involve changes to any safety analyses assumptions, safety limits, or limiting safety system settings. The change does not adversely impact plant operating margins or the reliability of equipment credited in the safety analyses.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William S. Blair, Managing Attorney—Nuclear, Florida Power & Light Company, 700 Universe Blvd., MS LAW/JB, Juno Beach, FL 33408-0420.

NRC Acting Branch Chief: Tracy J. Orf.

South Carolina Electric and Gas Company and South Carolina Public Service Authority, Docket Nos. 52-027 and 52-028, Virgil C. Summer Units 2 and 3, Fairfield County, South Carolina

Date of amendment request: June 2, 2016. A publicly-available version is in ADAMS under Accession No. ML16154A226.

Description of amendment request: The proposed changes revise the Combined Licenses (COL) concerning the design details of the safety-related passive core cooling system (PXS), the nonsafety-related normal residual heat removal system (RNS), and the nonsafety-related containment air filtration system (VFS). The amendment request proposes changes to the Updated Final Safety Analysis Report (UFSAR) in the form of departures from the plant-specific Design Control Document (DCD) Tier 2 information, and involves changes to related plant-specific DCD Tier 1 information, with corresponding changes to the associated COL Appendix C information. Because, this proposed change requires a departure from Tier 1 information in the Westinghouse Advanced Passive 1000 DCD, the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not affect the operation of any systems or equipment that initiate an analyzed accident or alter any structures, systems, and components (SSCs) accident initiator or initiating sequence of events. The proposed changes result from identifying PSX, RNS, and VFS piping lines required to be described in the licensing basis as ASME [American Society of Mechanical Engineers] Code Section III, evaluated to meet the LBB [leak-before-break] design criteria, or designed to withstand combined normal and seismic design basis loads without a loss of functional capability. Neither planned or inadvertent operation nor failure of the PXS, RNS, or VFS is an accident initiator or part of an initiating sequence of events for an accident previously evaluated. Therefore, the probabilities of the accidents evaluated in the UFSAR are not affected.

The proposed changes do not have an adverse impact on the ability of the PXS, RNS, or VFS to perform their design functions. The design of the PXS, RNS, and VFS continues to meet the same regulatory acceptance criteria, codes, and standards as required by the UFSAR. In addition, the changes ensure that the capabilities of the PXS, RNS, and VFS to mitigate the consequences of an accident meet the applicable regulatory acceptance criteria, and there is no adverse effect on any safety-related SSC or function used to mitigate an accident. The changes do not affect the prevention and mitigation of other abnormal events, e.g., anticipated operational occurrences, earthquakes, floods and turbine missiles, or their safety or design analyses. Therefore, the consequences of the accidents evaluated in the UFSAR are not affected.

Therefore, the proposed amendment does not involve a significant increase in the probability or consequences of an accident previously evaluated.

2. Does the proposed amendment create the possibility of a new or different kind of accident from any accident previously evaluated?

Response: No.

The proposed changes do not affect the operation of any systems or equipment that may initiate a new or different kind of accident, or alter any SSC such that a new accident initiator or initiating sequence of events is created. The proposed changes result from identifying PXS, RNS, and VFS piping lines required to be described in the licensing basis as ASME Code Section III, evaluated to meet the LBB design criteria, or designed to withstand combined normal and seismic design basis loads without a loss of functional capability. These proposed changes do not adversely affect any other PXS, RNS, VFS, or SSC design functions or methods of operation in a manner that results in a new failure mode, malfunction, or sequence of events that affect safety-related or nonsafety-related equipment. Therefore, this activity does not allow for a new fission product release path, result in a new fission product barrier failure mode, or create a new sequence of events that results in significant fuel cladding failures.

Therefore, the requested amendment does not create the possibility of a new or different kind of accident from any accident previously evaluated.

3. Does the proposed amendment involve a significant reduction in a margin of safety?

Response: No.

The proposed changes maintain existing safety margins. The proposed changes ensure that PXS, RNS, and VFS design requirements and design functions are met. The proposed changes maintain existing safety margin through continued application of the existing requirements of the UFSAR, while adding additional design features to ensure the PXS, RNS, and VFS perform the design functions required to meet the existing safety margins. Therefore, the proposed changes satisfy the same design functions in accordance with the same codes and standards as stated in the UFSAR. These changes do not adversely affect any design code, function, design analysis, safety analysis input or result, or design/safety margin. Because no safety analysis or design basis acceptance limit/criterion is challenged or exceeded by the proposed changes, no margin of safety is reduced.

Therefore, the requested amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius, LLC, 1111 Pennsylvania Avenue NW., Washington, DC 20004-2514.

NRC Acting Branch Chief: Jennifer Dixon-Herrity.

Southern Nuclear Operating Company, Inc., Docket Nos. 50-321 and 50-366, Edwin I. Hatch Nuclear Plant, Unit Nos. 1 and 2, Appling County, Georgia

Date of amendment request: July 1, 2016. A publicly-available version is in ADAMS under Accession No. ML16188A268.

Description of amendment request: The amendment would revise Technical Specification (TS) 5.5.12, “Primary Containment Leakage Rate Testing Program,” by (1) increasing the existing Type A integrated leak test program test interval from 10 to 15 years in accordance with Nuclear Energy Institute (NEI) topical report NEI 94-01, Revision 3-A, “Industry Guideline for Implementing Performance-Based Option of 10 CFR part 50, Appendix J” (ADAMS Accession No. ML12221A202), and the conditions and limitations specified in NEI 94-01, Revision 2-A (ADAMS Accession No. ML100620847); (2) extending the containment isolation valve leakage test (Type C) frequency from 60 months to 75 months in accordance with NEI 94-01, Revision 3-A; (3) adopting the use of the American National Standards Institute/American Nuclear Society 56.8-2002, “Containment System Leakage Testing Requirements;” and (4) adopting a more conservative grace interval of 9 months for Type A, Type B, and Type C leakage test in accordance with NEI 94-01, Revision 3-A.

Additionally, the amendment would also delete the information from TS 5.5.12 regarding the performance of Type A tests for Unit Nos. 1 and 2 in 2008 and 2010, respectively, on the basis that both tests have already occurred.

Basis for proposed no significant hazards consideration determination: As required by 10 CFR 50.91(a), the licensee has provided its analysis of the issue of no significant hazards consideration which is presented below:

1. Does the proposed amendment involve a significant increase in the probability or consequences of an accident previously evaluated?

Response: No.

The proposed amendment to the Technical Specifications (TS) involves the extension of the Edwin I. Hatch Nuclear Plant (HNP), Units 1 and 2 Type A containment test interval to 15 years and the extension of the Type C test interval to 75 months. The current Type A test interval of 120 months (10 years) would be extended on a permanent basis to no longer than 15 years from the last Type A test. The current Type C test interval of 60 months for selected components would be extended on a performance basis to no longer than 75 months. Extensions of up to nine months (total maximum interval of 84 months for Type C tests) are permissible only for non-routine emergent conditions. The proposed extension does not involve either a physical change to the plant or a change in the manner in which the plant is operated or controlled. The containment is designed to provide an essentially leak tight barrier against the uncontrolled release of radioactivity to the environment for postulated accidents. As such, the containment and the testing requirements invoked to periodically demonstrate the integrity of the containment exist to ensure the plant's ability to mitigate the consequences of an accident, and do not involve the prevention or identification of any precursors of an accident. The change in Type A test frequency from three in ten years to one in fifteen years, measured as an increase in the total integrated plant dose risk for those accident sequences influenced by Type A testing, is 9.90E-03 person-rem/yr using the Electric Power Research Institute (EPRI) guidance values, and drops to 1.96E-03 person-rem/yr using the EPRI Expert Elicitation values. Therefore, this proposed extension does not involve a significant increase in the probability of an accident previously evaluated.

In addition, as documented in NUREG-1493, “Performance-Based Containment Leak-Test Program,” Types B and C tests have identified a very large percentage of containment leakage paths, and the percentage of containment leakage paths that are detected only by Type A testing is very small. The HNP, Units 1 and 2 Type A test history supports this conclusion.

The integrity of the containment is subject to two types of failure mechanisms that can be categorized as: (1) Activity based, and, (2) time based. Activity based failure mechanisms are defined as degradation due to system and/or component modifications or maintenance. Local leakage rate test (LLRT) requirements and administrative controls such as configuration management and procedural requirements for system restoration ensure that containment integrity is not degraded by plant modifications or maintenance activities. The design and construction requirements of the containment combined with the containment inspections performed in accordance with American Society of Mechanical Engineers (ASME) Section XI, and TS requirements serve to provide a high degree of assurance that the containment would not degrade in a manner that is detectable only by a Type A test. Based on the above, the proposed extensions do not significantly increase the consequences of an accident previously evaluated. The proposed amendment also deletes exceptions previously granted to allow onetime extensions of the ILRT [integrated leak rate test] test frequency for both Units 1 and 2. These exceptions were for activities that have already taken place; therefore, their deletion is solely an administrative action that has no effect on any component and no physical impact on how the units are operated.

Therefore, the proposed change does not result in a significant increase in the probability or consequences of an accident previously evaluated.

2. Does the proposed change create the possibility of a new or different kind of accident from any accident previously evaluated?

Response: No.

The proposed amendment to the TS involves the extension of the HNP, Unit 1 and 2 Type A containment test interval to 15 years and the extension of the Type C test interval to 75 months. The containment and the testing requirements to periodically demonstrate the integrity of the containment exist to ensure the plant's ability to mitigate the consequences of an accident. The proposed change does not involve a physical change to the plant (i.e., no new or different type of equipment will be installed) nor does it alter the design, configuration, or change the manner in which the plant is operated or controlled beyond the standard functional capabilities of the equipment.

The proposed amendment also deletes exceptions previously granted to allow one-time extensions of the ILRT test frequency for both Units 1 and 2. These exceptions were for activities that would have already taken place by the time this amendment is approved; therefore, their deletion is solely an administrative action that does not result in any change in how the units are operated.

Therefore, the proposed change does not create the possibility of a new or different kind of accident from any previously evaluated.

3. Does the proposed change involve a significant reduction in a margin of safety?

Response: No.

The proposed amendment to TS 5.5.12 involves the extension of the HNP, Units 1 and 2 Type A containment test interval to 15 years and the extension of the Type C test interval to 75 months for selected components. This amendment does not alter the manner in which safety limits, limiting safety system set points, or limiting conditions for operation are determined. The specific requirements and conditions of the TS Containment Leak Rate Testing Program exist to ensure that the degree of containment structural integrity and leak-tightness that is considered in the plant safety analysis is maintained. The overall containment leak rate limit specified by TS is maintained.

The proposed change involves only the extension of the interval between Type A containment leak rate tests and Type C tests for HNP, Units 1 and 2. The proposed surveillance interval extension is bounded by the 15-year ILRT Interval and the 75-month Type C test interval currently authorized within NEI 94-01, “Industry Guideline for Implementing Performance-Based Option of 10 CFR part 50, Appendix J,” Revision 3-A. Industry experience supports the conclusion that Type B and C testing detects a large percentage of containment leakage paths and that the percentage of containment leakage paths that are detected only by Type A testing is small. The containment inspections performed in accordance with ASME Section XI, and TS serve to provide a high degree of assurance that the containment would not degrade in a manner that is detectable only by Type A testing. The combination of these factors ensures that the margin of safety in the plant safety analysis is maintained. The design, operation, testing methods and acceptance criteria for Type A, B, and C containment leakage tests specified in applicable codes and standards would continue to be met, with the acceptance of this proposed change, since these are not affected by changes to the Type A and Type C test intervals.

The proposed amendment also deletes exceptions previously granted to allow one time extensions of the ILRT test frequency for both HNP Units 1 and 2. These exceptions were for activities that have taken place; therefore, their deletion is solely an administrative action and does not change how the units are operated and maintained. Thus, there is no reduction in any margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, Inc., 40 Inverness Center Parkway, Birmingham, AL 35242.

NRC Branch Chief: Michael T. Markley.

Southern Nuclear Operating Company, Docket Nos. 52-025 and 52-026, Vogtle Electric Generating Plant, Units 3 and 4, Burke County, Georgia

Date of amendment request: July 25, 2016. A publicly-available version is in ADAMS under Accession No. ML16207A496.

Description of amendment request: The amendment request proposes changes to plant-specific Tier 1 information, with corresponding changes to the associated combined license (COL) Appendix C information, and involves associated Tier 2 information in the Updated Final Safety Analysis Report (UFSAR). Pursuant to the provisions of 10 CFR 52.63(b)(1), an exemption from elements of the design as certified in the 10 CFR part 52, Appendix D, design certification rule is also requested for the plant-specific design control document Tier 1 material departures. Specifically, the requested amendment proposes clarifications to a plant-specific Tier 1 (and COL Appendix C) table and a UFSAR table in regard to the inspections of the excore source, intermediate, and power range detectors.

Basis for proposed no significant hazards consideration determination: As required by 10 CFR 50.91(a), the licensee has provided its analysis of the issue of no significant hazards consideration, which is presented below with Nuclear Regulatory Commission (NRC) staff's edits in square brackets:

1. Does the proposed amendment involve a significant increase in the probability or consequences of an accident previously evaluated?

Response: No.

The proposed change to specify the inspection of the excore source, intermediate, and power range detectors is done to verify that aluminum surfaces are contained in stainless steel or titanium, and avoids the introduction of aluminum into the post-loss of coolant accident (LOCA) containment environment due to detector materials. The proposed change does not alter any safety related functions. The materials of construction are compatible with the post[-]LOCA conditions inside containment and will not significantly contribute to hydrogen generation or chemical precipitates. The change does not affect the operation of any systems or equipment that initiate an analyzed accident or alter any structures, systems, and components (SSC) accident initiator or initiating sequence of events.

The change does not impact the support, design, or operation of mechanical and fluid systems. There is no change to plant systems or the response of systems to postulated accident conditions. There is no change to the predicted radioactive releases due to normal operation or postulated accident conditions. Consequently, the plant response to previously evaluated accidents or external events is not adversely affected, nor does the proposed change create any new accident precursors.

Therefore, the proposed amendment does not involve a significant increase in the probability or consequences of an accident previously evaluated.

2. Does the proposed amendment create the possibility of a new or different kind of accident from any accident previously evaluated?

Response: No.

The proposed change does not affect the operation of any systems or equipment that may initiate a new or different kind of accident, or alter any SSC such that a new accident initiator or initiating sequence of events is created. The proposed change to specify the inspection of the excore source, intermediate, and power range detectors is done to verify that aluminum surfaces are contained in stainless steel or titanium, and avoids the introduction of aluminum into the post[-]LOCA containment environment due to detector materials. In addition, the proposed change to the [inspection, test, analysis, and acceptance criteria (ITAAC)] verified materials of construction does not alter the design function of the excore detectors. The detector canning materials of construction are compatible with the post-LOCA containment environment and do not contribute a significant amount of hydrogen or chemical precipitates. The change to the ITAAC aligns the inspection with the Tier 2 design feature. Consequently, because the excore detectors functions are unchanged, there are no adverse effects on accidents previously evaluated in the UFSAR.

Therefore, the proposed amendment does not create the possibility of a new or different kind of accident from any accident previously evaluated.

3. Does the proposed amendment involve a significant reduction in a margin of safety?

Response: No.

The proposed change to specify the inspection of the excore source, intermediate, and power range detectors is done to verify that aluminum surfaces are contained in stainless steel or titanium, and avoids the introduction of aluminum into the post-LOCA containment environment, does not alter any safety-related equipment, applicable design codes, code compliance, design function, or safety analysis. Consequently, no safety analysis or design basis acceptance limit/criterion is challenged or exceeded by the proposed change, thus the margin of safety is not reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Acting Branch Chief: Jennifer Dixon-Herrity.

Southern Nuclear Operating Company, Docket Nos. 52-025 and 52-026, Vogtle Electric Generating Plant (VEGP), Units 3 and 4, Burke County, Georgia

Date of amendment request: June 14, 2016, as revised on August 12, 2016. A publicly-available version is in ADAMS under Accession Nos. ML16166A409 and ML16225A655, respectively.

Description of amendment request: The amendment request proposes changes to the Updated Final Safety Analysis Report (UFSAR) in the form of departures from the incorporated plant-specific Design Control Document Tier 2* and associated Tier 2 information. Specifically, the proposed departures consist of changes to the UFSAR to revise the details of the structural design of auxiliary building floors.

A biweekly Federal Register notice was published on August 2, 2016, providing an opportunity to comment, request a hearing, and petition for leave to intervene for a License Amendment Request (LAR) for the VEGP combined licenses. Since that time, the licensee has submitted a revision to the original LAR, dated August 12, 2016, that increases the scope of the LAR.

Basis for proposed no significant hazards consideration determination: As required by 10 CFR 50.91(a), the licensee has provided its analysis of the issue of no significant hazards consideration, which is presented below:

1. Does the proposed amendment involve a significant increase in the probability or consequences of an accident previously evaluated?

Response: No.

The design functions of the auxiliary building floors are to provide support, protection, and separation for the seismic Category I mechanical and electrical equipment located in the auxiliary building. The auxiliary building is a seismic Category I structure and is designed for dead, live, thermal, pressure, safe shutdown earthquake loads, and loads due to postulated pipe breaks. The proposed changes to UFSAR descriptions and figures are intended to address changes in the detail design of floors in the auxiliary building. The thickness and strength of the auxiliary building floors are not reduced. As a result, the design function of the auxiliary building structure is not adversely affected by the proposed changes. There is no change to plant systems or the response of systems to postulated accident conditions. There is no change to the predicted radioactive releases due to postulated accident conditions. The plant response to previously evaluated accidents or external events is not adversely affected, nor do the changes described create any new accident precursors. Therefore, the proposed amendment does not involve a significant increase in the probability or consequences of an accident previously evaluated.

2. Does the proposed amendment create the possibility of a new or different kind of accident from any accident previously evaluated?

Response: No.

The changes to UFSAR descriptions are proposed to address changes in the detail design of floors in the auxiliary building. The thickness, geometry, and strength of the structures are not adversely altered. The concrete and reinforcement materials are not altered. The properties of the concrete are not altered. The changes to the design details of the auxiliary building structure do not create any new accident precursors. As a result, the design function of the auxiliary building structure is not adversely affected by the proposed changes.

Therefore, the proposed amendment does not create the possibility of a new or different kind of accident from any accident previously evaluated.

3. Does the proposed amendment involve a significant reduction in a margin of safety?

Response: No.

The criteria and requirements of American Concrete Institute (ACI) 349 and American Institute of Steel Construction (AISC) N690 provide a margin of safety to structural failure. The design of the auxiliary building structure conforms to criteria and requirements in ACI 349 and AISC N690 and therefore maintains the margin of safety. Analysis of the connection design confirms that code provisions are appropriate to the floor to wall connection. The proposed changes to the UFSAR address changes in the detail design of floors in the auxiliary building. The proposed changes also incorporate the requirements for development and anchoring of headed reinforcement which were previously approved. There is no change to design requirements of the auxiliary building structure. There is no change to the method of evaluation from that used in the design basis calculations. There is not a significant change to the in structure response spectra. Therefore, the proposed amendment does not result in a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Acting Branch Chief: Jennifer Dixon-Herrity.

Tennessee Valley Authority, Docket No. 50-390, Watts Bar Nuclear Plant (WBN), Unit 1, Rhea County, Tennessee

Date of amendment request: June 7, 2016. A publicly-available version is in ADAMS under Accession No. ML16159A403.

Description of amendment request: The amendment would revise the Technical Specifications (TSs) to allow use of component cooling system (CCS) pump 2B-B to support CCS Train 1B operability when the normally-aligned CCS pump is inoperable. The amendment would provide increased flexibility for maintaining CCS operability.

Basis for proposed no significant hazards consideration determination: As required by 10 CFR 50.91(a), the licensee has provided its analysis of the issue of no significant hazards consideration, which is presented below:

1. Does the proposed amendment involve a significant increase in the probability or consequence of an accident previously evaluated?

Response: No.

The proposed change to allow the use of the CCS pump 2B-B to support Train 1B operability does not result in any physical changes to plant safety-related structures, systems, or components (SSCs). The CCS functions to remove plant system heat loads during normal, shutdown, and accident conditions. The CCS will continue to perform this function with equipment qualified to the same standards. The CCS is not an accident initiator, but instead performs accident mitigation functions by serving as the heat sink for safety-related equipment, ensuring the conditions and assumptions credited in the accident analyses are preserved. Therefore, the proposed change does not involve a significant increase in the probability of an accident previously evaluated.

The purpose of this change is to modify the CCS TS to allow the use of CCS pump 2B-B to replace CCS pump C-S in supporting Train 1B operability. The proposed change provides assurance that the minimum conditions necessary for the CCS to perform its heat removal safety function are maintained. Accordingly, operation as specified by the addition of the Notes and the additional surveillance requirement will provide the necessary assurance that fuel cladding, reactor coolant system pressure boundary, and containment integrity limits are not challenged during worst-case pos[t]-accident conditions. CCS pump C-S and pump 2B-B are identical pumps with identical controls except that the CCS pump 2B-B does not receive an automatic start signal from a Unit 1 Safety Injection (SI) actuation signal. To compensate for the lack of the SI actuation signal, CCS pump 2B-B is required to be in operation to support Unit 1 operation when substituting for CSS pump C-S. With the CCS pump 2B-B in operation, the pump will continue to operate following a SI actuation signal. Accordingly, the conclusions of the accident analyses will remain as previously evaluated such that there will be no significant increase in the consequences of an accident previously evaluated.

Therefore, the proposed change does not involve a significant increase in the probability or consequence of an accident previously evaluated.

2. Does the proposed amendment create the possibility of a new or different kind of accident from any accident previously evaluated?

Response: No.

The proposed change does not involve any physical changes to plant safety-related SSCs or alter the modes of plant operation in a manner that will change the design function or operation of the CCS. The proposed additional limits on CCS alignment and CCS pump 2B-B operation provide assurance that the conditions and assumptions credited in the accident analyses are preserved. Thus, the plant's overall ability to reject heat to the ultimate heat sink during normal operation, normal shutdown, and worst-case accident conditions will not be significantly affected by this proposed change. Because the safety and design requirements continue to be met and the integrity of the reactor coolant system pressure boundary is not challenged, no new credible failure mechanisms, malfunctions, or accident initiators are created, and there will be no effect on the accident mitigating systems in a manner that would significantly degrade the plant's response to an accident.

Therefore, the proposed change does not create the possibility of a new or different kind of accident from any accident previously evaluated.

3. Does the proposed amendment involve a significant reduction in a margin of safety?

Response: No.

The proposed change modifies the CCS TS to maintain the CCS Train 1B operable while aligned with CCS pump 2B-B. With CCS pump 2B-B in operation when aligned to CCS Train 1B, CCS pump 2B-B will operate to provide the CCS accident mitigation function if a postulated accident occurs. CCS pumps C-S and 2B-B are identical pumps and will perform the same function with this change, resulting in essentially no change in the safety margin before the change to the safety margin after the change. Accordingly, the proposed change will not significantly reduce the margin of safety of any SSCs that rely on the CCS for heat removal to perform their safety-related functions.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Sherry A. Quirk, Executive Vice President and General Counsel, Tennessee Valley Authority, 400 West Summit Hill Drive, 6A Tower West, Knoxville, TN 37902.

NRC Acting Branch Chief: Tracy J. Orf.

Tennessee Valley Authority, Docket No. 50-391, Watts Bar Nuclear Plant (WBN), Unit 2, Rhea County, Tennessee

Date of amendment request: May 16, 2016. A publicly-available version is in ADAMS under Accession No. ML16137A572.

Description of amendment request: The amendment would revise the Technical Specifications (TS) to correct an administrative error regarding the steam generator (SG) narrow range (NR) level specified in Surveillance Requirement (SR) 3.4.6.3.

Basis for proposed no significant hazards consideration determination: As required by 10 CFR 50.91(a), the licensee has provided its analysis of the issue of no significant hazards consideration, which is presented below:

1. Does the proposed amendment involve a significant increase in the probability or consequences of an accident previously evaluated?

Response: No.

The WBN Unit 2 TS SR 3.4.6.3 is being amended due [to] an administrative error that was incorporated into the initial submittal of the WBN Unit 2 Revision 0 TS. The impact of this amendment will not affect how plant equipment is operated or maintained. This proposed amendment corrects an error in the required SG NR level minimum value, while in Mode 4, from 32% to 6%. The purpose for this SR is to ensure the steam generator u-tubes are covered with water on the secondary side of the tubes. For the WBN Unit 2 SGs the lower SG NR level tap is above the top of the U-tubes. Therefore, a 6% NR level ensures the U-tubes are covered with water. There are no changes to the physical plant or analytical methods.

The proposed amendment does not impact any accident initiators, analyzed events, or assumed mitigation of accident or transient events. The proposed changes do not involve the addition or removal of any equipment or any design changes to the facility. The proposed changes do not affect any design functions, or analyses that verify the capability of structures, systems, and components (SSCs) to perform a design function. The proposed changes do not change any of the accidents previously evaluated in the Final Safety Analysis Report (FSAR). The proposed changes do not affect SSCs, operating procedures, and administrative controls that have the function of preventing or mitigating any of these accidents.

Therefore, the proposed change does not involve a significant increase in the probability or consequences of an accident previously evaluated.

2. Does the proposed amendment create the possibility of a new or different kind of accident from any accident previously evaluated?

Response: No.

No actual plant equipment or accident analyses will be affected by the proposed amendment. The proposed amendment will not change the design function of any SSCs or result in any new failure mechanisms, malfunctions, or accident initiators not considered in the design and licensing bases. The proposed amendment does not impact any accident initiators, analyzed events, or assumed mitigation of accident or transient events.

Therefore, the proposed change does not create the possibility of a new or different kind of accident from any accident previously evaluated.

3. Does the proposed amendment involve a significant reduction in a margin of safety?

Response: No.

The proposed amendment does not involve any physical changes to the plant or alter the manner in which plant systems are intended to be operated, maintained, modified, tested, or inspected. The proposed amendment does not alter the manner in which safety limits, limiting safety system settings or limiting conditions for operation are determined. The safety analysis acceptance criteria are not affected by this change. The proposed amendment will not result in plant operation in a configuration outside the design basis. The proposed amendment does not adversely affect systems that respond to safely shutdown the plant and to maintain the plant in a safe shutdown condition.

The proposed change does not alter the manner in which safety limits, limiting safety system settings or limiting conditions for operation are determined. The safety analysis acceptance criteria are not affected by this change. The proposed change will not result in plant operation in a configuration outside the design basis.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Sherry A. Quirk, Executive Vice President and General Counsel, Tennessee Valley Authority, 400 West Summit Hill Drive, 6A Tower West, Knoxville, Tennessee 37902.

NRC Acting Branch Chief: Tracy J. Orf.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Exelon Generation Company, LLC, Docket No. 50-461, Clinton Power Station (CPS), Unit No. 1, DeWitt County, Illinois

Date of application for amendment: January 29, 2016, as supplemented by letters dated June 2 and 10, 2016.

Brief description of amendment: The proposed amendment approved the post- loss-of-coolant-accident drawdown time for secondary containment from 12 to 19 minutes as described in the CPS Updated Safety Analysis Report and technical specification bases.

Date of issuance: August 17, 2016.

Effective date: As of the date of issuance and shall be implemented within 30 days from the date of issuance.

Amendment No.: 210. A publicly-available version is in ADAMS under Accession No. ML16217A332; documents related to this amendment are listed in the Safety Evaluation enclosed with the amendment.

Facility Operating License No. NPF-62: The amendment revised the Updated Safety Analysis Report.

Date of initial notice in Federal Register: April 12, 2016 (81 FR 21599). The supplemental letters dated June 2 and 10, 2016, provided additional information that clarified the application, did not expand the scope of the application as originally noticed, and did not change the staff's original proposed no significant hazards consideration determination as published in the Federal Register.

The Commission's related evaluation of the amendment is contained in a Safety Evaluation dated August 17, 2016.

No significant hazards consideration comments received: No.

Exelon Generation Company, LLC (EGC), Docket Nos. 50-373 and 50-374, LaSalle County Station (LSCS), Units 1 and 2, LaSalle County, Illinois

Date of application for amendments: November 19, 2015, as supplemented by letter dated April 11, 2016.

Brief description of amendments: The amendments revised LSCS technical specifications (TS), Section 2.1.1, “Reactor Core SLs [safety limits],” to reflect a lower reactor steam dome pressure stated for reactor core SLs, Sections 2.1.1.1 and 2.1.1.2. Specifically, the amendment reduced the reactor steam dome pressure in TS SLs, Sections 2.1.1.1 and 2.1.1.2, from 785 psig [pound per square inch gage] to 700 psia [pound per square inch absolute]. This change to TS, Section 2.1.1, was identified as a result of 10 CFR part 21, General Electric report SC05-03, “Potential to Exceed Low Pressure Technical Specification Safety Limit.” This change is valid for the NRC-approved pressure range pertinent to the critical power correlations applied to the fuel types in use at LSCS.

Effective date: As of the date of issuance and the amendment shall be implemented for LSCS, Unit 1, within 30 days of issuance of the amendment. Also, the amendment shall be implemented for LSCS, Unit 2, prior to startup following refueling outage L2R16 in February 2017.

Amendment Nos.: 220 for NPF-11, Unit 1, and 206 for NPF-18, Unit 2. The publicly-available version of documents related to these amendments are listed in the Safety Evaluation enclosed with the amendments in ADAMS under Accession No. ML16155A110.

Facility Operating License Nos. NPF-11 and NPF-18: The amendments revised the Licenses and Technical Specifications.

Date of initial notice in Federal Register: February 2, 2016 (81 FR 5497). The supplemental letter dated April 11, 2016, provided additional information that clarified the application, did not expand the scope of the application as originally noticed, and did not change the staff's original proposed no significant hazards consideration determination as published in the Federal Register.

The Commission's related evaluation of the amendments is contained in a Safety Evaluation dated August 23, 2016.

No significant hazards consideration comments received: No.

Indiana Michigan Power Company, Docket No. 50-316, Donald C. Cook Nuclear Plant (CNP), Unit 2, Berrien County, Michigan

Date of amendment request: October 19, 2015, as supplemented by letters dated January 21, 2016, and April 18, 2016.

Brief description of amendment: The amendment revised the CNP, Unit 2, technical specification (TS) requirements for the Engineered Safety Feature Actuation System Instrumentation by adding a new Condition for inoperable required channels for main feedwater pump trips, and by adding a footnote to the Applicable Mode column of TS Table 3.3.2-1 to reflect the new Condition.

Date of issuance: August 19, 2016.

Effective date: As of the date of issuance and shall be implemented within 180 days of issuance.

Amendment No.: 313. A publicly-available version is in ADAMS under Accession No. ML16216A181; documents related to this amendment are listed in the Safety Evaluation enclosed with the amendment.

Renewed Facility Operating License No. DPR-74: The amendment revises the Renewed Facility Operating License and Technical Specifications.

Date of initial notice in Federal Register: December 22, 2015 (80 FR 79621). The supplemental letters dated January 21, 2016, and April 18, 2016, provided additional information that clarified the application, did not expand the scope of the application as originally noticed, and did not change the staff's original proposed no significant hazards consideration determination as published in the Federal Register.

The Commission's related evaluation of the amendment is contained in a Safety Evaluation dated August 19, 2016.

No significant hazards consideration comments received: No.

NextEra Energy Duane Arnold, LLC, Docket No. 50-331, Duane Arnold Energy Center (DAEC), Linn County, Iowa

Date of amendment request: August 6, 2015, as supplemented by letter dated April 12, 2016.

Brief description of amendment: The amendment revised the value of reactor steam dome pressure specified within the Reactor Core Safety Limits Technical Specification (TS) 2.1.1. This resolved a 10 CFR part 21, condition concerning a potential to momentarily violate Reactor Core Safety Limit (TSs 2.1.1.1 and 2.1.1.2) during a pressure regulator failure maximum demand (Open) transient.

Date of issuance: August 18, 2016.

Effective date: As of the date of issuance and shall be implemented within 60 days.

Amendment No.: 295. A publicly-available version is in ADAMS under Accession No. ML16153A091; documents related to this amendment are listed in the Safety Evaluation enclosed with the amendment.

Renewed Facility Operating License No. DPR-49: The amendment revised the License and TSs.

Date of initial notice in Federal Register: November 10, 2015 (80 FR 69713). The supplemental letter dated April 12, 2016, provided additional information that clarified the application, did not expand the scope of the application as originally noticed, and did not change the staff's original proposed no significant hazards consideration determination as published in the Federal Register.

The Commission's related evaluation of the amendment is contained in a Safety Evaluation dated August 18, 2016.

No significant hazards consideration comments received: No.

Omaha Public Power District, Docket No. 50-285, Fort Calhoun Station, Unit No. 1, Washington County, Nebraska

Date of amendment request: September 11, 2015, as supplemented by letter dated April 8, 2016.

Brief description of amendment: The amendment revised the Technical Specifications (TSs) by removing the current stored diesel fuel oil and lube oil numerical volume requirements from the TSs and replacing them with emergency diesel generator operating time requirements consistent with NRC-approved Technical Specifications Task Force (TSTF) Traveler TSTF-501, Revision 1, “Relocate Stored Fuel Oil and Lube Oil Volume Values to Licensee Control,” including plant-specific variances.

Date of issuance: August 19, 2016.

Effective date: As of the date of issuance and shall be implemented within 60 days from the date of issuance.

Amendment No.: 289. A publicly-available version is in ADAMS under Accession No. ML16182A363; documents related to this amendment are listed in the Safety Evaluation enclosed with the amendment.

Renewed Facility Operating License No. DPR-40: The amendment revised the License and TSs.

Date of initial notice in Federal Register: November 24, 2015 (80 FR 73239). The supplemental letter dated April 8, 2016, provided additional information that clarified the application, did not expand the scope of the application as originally noticed, and did not change the staff's original proposed no significant hazards consideration determination as published in the Federal Register.

The Commission's related evaluation of the amendment is contained in a safety evaluation dated August 19, 2016.

No significant hazards consideration comments received: No.

Southern Nuclear Operating Company, Docket Nos. 52-025 and 52-026, Vogtle Electric Generating Plant (VEGP), Units 3 and 4, Burke County, Georgia

Date of amendment request: November 16, 2015, as supplemented by letter dated February 12, 2016.

Brief description of amendment: The amendment authorized changes to the VEGP Units 3 and 4 Updated Final Safety Analysis Report in the form of departures from the incorporated plant-specific Design Control Document Tier 2* information. The proposed changes are related to changes to construction methods and construction sequence used for the composite floors and roof of the auxiliary building.

Date of issuance: June 29, 2016.

Effective date: As of the date of issuance and shall be implemented within 30 days of issuance.

Amendment No.: 49. A publicly-available version is in ADAMS under Accession No. ML16146A734; documents related to this amendment are listed in the Safety Evaluation enclosed with the amendment.

Facility Combined License Nos. NPF-91 and NPF-92: The amendment revised the Facility Combined Licenses.

Date of initial notice in Federal Register: February 2, 2016 (81 FR 5495). The supplemental letter dated February 12, 2016, provided additional information that did not expand the scope of the amendment request and did not change the NRC staff's original proposed no significant hazards consideration determination.

The Commission's related evaluation of the amendment is contained in the Safety Evaluation dated June 29, 2016.

No significant hazards consideration comments received: No.

Dated at Rockville, Maryland, this 31st day of August 2016.
For the Nuclear Regulatory Commission.
Anne T. Boland,
Director, Division of Operating Reactor Licensing, Office of Nuclear Reactor Regulation.

[FR Doc. 2016-21998 Filed 9-12-16; 8:45 am]

BILLING CODE 7590-01-P